DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final within the meaning of 23 U.S.C. 139(l)(1). The actions relate to a proposed highway project, the US 101/Broadway Interchange Reconstruction Project in the City of Burlingame, County of San Mateo, State of California (Post Miles 16.30 to 17.06). Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 28, 2011. If the Federal law that authorizes judicial review of a claim provides a time period of less than 180 days for filing such claim, then that shorter time period still applies.

FOR FURTHER INFORMATION CONTACT: Melanie Brent, Caltrans District 4 Office of Environmental Analysis, 111 Grand Avenue, P.O. Box 23660, Oakland, CA 94623-0660, 8 a.m. to 5 p.m. Pacific Standard Time, Telephone (510) 286-5231, e-mail melanie_brent@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans and certain federal agencies have taken final agency actions subject to 23 U.S.C. 139(l)(1) by issuing licenses, permits, and approvals for the US 101/Broadway Interchange Reconstruction Project in the State of California. The project will construct a new seven-lane Broadway overcrossing approximately 170 feet to the north of the existing four-lane structure in the City of Burlingame, County of San Mateo. The purpose of the project is to improve traffic movements and access around the interchange, accommodate future traffic increases at adjacent intersections, improve operations at the southbound US 101 ramps, and increase bicyclist and pedestrian access. The project length is 0.76 mile, and construction is anticipated to take 2 to 2.5 years. The actions by the Federal agencies, and the laws under which such actions were taken, are described in the Initial Study with Mitigated Negative Declaration/Environmental Assessment (IS/EA) for the project, approved on March 18, 2011, in the Finding of No Significant Impact (FONSI) issued on March 18, 2011, and in other documents in the FHWA project records. The IS/EA, FONSI, and other project records are available by contacting Caltrans at the address provided above. The Caltrans IS/EA and FONSI can be viewed and downloaded from the project Web site at http://www.dot.ca.gov/dist4/documents/101_broadway_interch/ea_235840_101bdwy_fed_1_front_matter_thru_chapter_6.pdf.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)].

7. Wetlands and Water Resources: Clean Water Act (Section 404, Section 401, Section 319) [33 U.S.C. 1251-1377]; Safe Drinking Water Act (SDWA) [42 U.S.C. 300(f)-300(j)(6)].

8. Executive Orders: E.O. 11990 Protection of Wetlands; E.O. 11988 Floodplain Management; E.O. 12898 Federal Actions to Address Environmental Justice in Minority Populations and Low Income Populations; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: May 25, 2011.
Maiser Khaled,
Acting Director, State Programs, Federal Highway Administration, Sacramento, California.

[FR Doc. 2011-13545 Filed 5-31-11; 8:45 am]

BILLING CODE 4910-RY-P